DEPARTMENT OF AGRICULTURE

Natural Resources Conservation Service

[Docket No. NRCS-2018-0003]

Notice of Availability of the Alabama Trustee Implementation Group Draft Restoration Plan II/Environmental Assessment: Wetlands, Coastal and Nearshore Habitats, Habitat Projects on Federally Managed Lands, Nutrient Reduction (Nonpoint Source), Sea Turtles, Marine Mammals, Birds, and Oysters

AGENCY: Natural Resources Conservation Service (NRCS), Agriculture.

ACTION: Notice of availability.

SUMMARY: In accordance with the Oil Pollution Act (OPA) of 1990 and the National Environmental Policy Act (NEPA), the Deepwater Horizon Federal and State natural resource trustee agencies for the Alabama Trustee Implementation Group (Alabama TIG) have prepared a draft Restoration Plan II/Environmental Assessment (RP II/EA). The draft RP II/EA describes the restoration project alternatives considered by the Alabama TIG to meet the Trustee's goals to restore and conserve habitat, to replenish and protect living coastal and marine resources, to restore water quality, and to provide for monitoring and adaptive management. The Alabama TIG evaluated these alternatives under criteria set forth in the OPA natural resource damage assessment (NRDA) regulations, as well as the environmental consequences in accordance with NEPA. Monitoring and adaptive management activities to address information gaps necessary to inform future restoration are also included in the draft plan. The purpose of this notice is to inform the public of the availability of the draft RP II/EA and to seek public comments on the document.

DATES: The Alabama TIG will consider public comments received on or before May 4, 2018.

Public Meeting: On April 18, 2018, the Alabama TIG will host a public meeting to facilitate public review of the draft RP II/EA. The meeting will begin with an open house and be followed by a formal meeting where the Alabama TIG will present the draft RP II/EA and receive verbal comments from members of the public. Alabama TIG representatives will be present during the open house and will be available to answer questions. The Alabama TIG also will accept written comments during the public meeting. The public meeting schedule and details are listed in the SUPPLEMENTARY INFORMATION section.

ADDRESSES: Obtaining Documents: You may download the draft RP II/EA at http://www.gulfspillrestoration.noaa.gov. Alternatively, you may request a CD of the draft RP II/EA (see FOR FURTHER INFORMATION CONTACT). Also, you may view the document at any of the public facilities listed at http://www.gulfspillrestoration.noaa.gov.

Submitting Comments: You may submit comments on the draft RP II/EA by one of following methods:

• The web: https://parkplanning.nps.gov/XXXX

• U.S. Mail: U.S. Fish and Wildlife Service, P.O. Box 49567, Atlanta, Georgia 30345. Please note that mailed comments must be postmarked on or before the comment deadline of May 4, 2018, to be considered.

FOR FURTHER INFORMATION CONTACT:

• USDA—Ronald Howard, ron.howard@ms.usda.gov.

• State of Alabama—Amy Hunter, amy.hunter@dcnr.alabama.gov.

SUPPLEMENTARY INFORMATION:

Introduction

On April 20, 2010, the mobile offshore drilling unit, Deepwater Horizon, which was being used to drill a well for BP Exploration and Production Inc. (BP), in the Macondo prospect (Mississippi Canyon 252-MC252), exploded, caught fire, and subsequently sank in the Gulf of Mexico, resulting in an unprecedented volume of oil and other discharges from the rig and from the wellhead on the seabed. The Deepwater Horizon Oil Spill is the largest oil spill in United States history, discharging millions of barrels of oil over a period of 87 days. In addition, well over one million gallons of dispersants were applied to the waters of the spill area in an attempt to disperse the spilled oil. Also, an undetermined amount of natural gas was released into the environment as a result of the spill.

The Deepwater Horizon State and Federal natural resource trustees (DWH Trustees) conducted the natural resource damage assessment (NRDA) for the Deepwater Horizon Oil Spill under OPA 1990 (OPA, 33 U.S.C. Sec. 2701 et seq.). Pursuant to OPA, Federal and State agencies act as trustees on behalf of the public to assess natural resource injuries and losses, and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are—

• U.S. Department of the Interior (DOI), as represented by the National Park Service (NPS), U.S. Fish and Wildlife Service (FWS), and Bureau of Land Management (BLM)

• National Oceanic and Atmospheric Administration (NOAA), on behalf of the U.S. Department of Commerce (DOC)

• U.S. Department of Agriculture (USDA)

• U.S. Environmental Protection Agency (EPA)

• State of Louisiana Coastal Protection and Restoration Authority, Oil Spill Coordinator's Office, Department of Environmental Quality, Department of Wildlife and Fisheries, and Department of Natural Resources

• State of Mississippi Department of Environmental Quality

• State of Alabama Department of Conservation and Natural Resources and Geological Survey of Alabama

• State of Florida Department of Environmental Protection and Fish and Wildlife Conservation Commission

• For the State of Texas, Texas Parks and Wildlife Department, Texas General Land Office, and Texas Commission on Environmental Quality

The DWH Trustees reached and finalized a settlement of their natural resource damage claims with BP in a Consent Decree ¹ approved by the United States District Court for the Eastern District of Louisiana. Pursuant to that Consent Decree, restoration projects in Alabama are now chosen and managed by the Alabama TIG. The Alabama TIG is composed of the following Trustees:

¹ https://www.justice.gov/enrd/file/838066/download.

• DOI, as represented by NPS, FWS, and BLM

• NOAA, on behalf of DOC

• USDA

• EPA

• State of Alabama Department of Conservation and Natural Resources

• Geological Survey of Alabama

This restoration planning activity is proceeding in accordance with the Deepwater Horizon Oil Spill: Final Programmatic Damage Assessment and Restoration Plan (PDARP) and Final Programmatic Environmental Impact Statement (PEIS). Restoration types evaluated in the draft RP II/EA include: Wetlands, Coastal and Nearshore Habitats; Habitat Projects on Federally Managed Lands; Nutrient Reduction (Nonpoint Source), Sea Turtles, Marine Mammals, Birds, and Oysters. Information on the Restoration Types evaluated in the draft RP II/EA, as well as the OPA criteria against which project ideas are being evaluated, can be viewed in the PDARP/PEIS (http://www.gulfspillrestoration.noaa.gov/restoration-planning/gulf-plan).

Background

In December 2016, as part of its restoration planning efforts, the Alabama TIG asked the public for project ideas that could benefit Wetlands, Coastal, and Nearshore Habitats; Habitat Projects on Federally Managed Lands, Nutrient Reduction (Nonpoint Source), Sea Turtles, Marine Mammals, Birds, and Oysters in the Alabama Restoration Area. The project submissions received through this process, along with projects previously submitted during prior restoration planning processes, resulted in the project alternatives evaluated in the draft RP II/EA.

Overview of the Draft RP II/EA

The draft RP II/EA is being released in accordance with the OPA NRDA regulations in the Code of Federal Regulations (CFR) at 15 CFR part 990, and the NEPA (42 U.S.C. Sec. 4321 et seq.). In the draft RP II/EA, the Alabama TIG proposes implementation of the following projects:

Five projects within the Wetlands, Coastal, and Nearshore Habitats Restoration Type

• Magnolia River Land Acquisition (Holmes Tract)

• Weeks Bay Land Acquisition East Gateway Tract

• Weeks Bay Land Acquisition Harrod Tract

• Lower Perdido Islands Restoration Phase I (Engineering & Design [E&D])

• Southwestern Coffee Island Habitat Restoration Project-Phase I (also proposed for funding under the Birds Restoration Type) (E&D)

Two projects within the Habitat Projects on Federally Managed Lands Restoration Type

• Little Lagoon Living Shoreline

• Restoring the Night Sky-Assessment, Training, and Outreach (also proposed for funding under the Sea Turtles Restoration Type and for monitoring and adaptive management [MAM] funding) (E&D)

Three projects within the Nutrient Reduction (Nonpoint Source) Restoration Type

• Toulmins Springs Branch E&D (E&D)

• Fowl River Nutrient Reduction

• Weeks Bay Nutrient Reduction

Four projects within the Sea Turtles Restoration Type

• Coastal Alabama Sea Turtle (CAST) Conservation Program—“Share the Beach”

• CAST Triage

• CAST Habitat Usage and Population Dynamics

• CAST Protection: Enhancement and Education

Two projects within the Marine Mammals Restoration Type

• Enhancing Capacity for the Alabama Marine Mammal Stranding Network

• Alabama Estuarine Bottlenose Dolphin Protection: Enhancement and Education

Two projects within the Birds Restoration Type

• Southwestern Coffee Island Habitat Restoration Project-Phase I (also proposed for funding under the Wetlands, Coastal, and Nearshore Habitats Restoration Type) (E&D)

• Colonial Nesting Wading Bird Tracking and Habitat Use Assessment—Two Species

Four projects within the Oysters Restoration Type

• Oyster Cultch Relief and Reef Configuration

• Side-scan Mapping of Mobile Bay Relic Oyster Reefs (E&D)

• Oyster Hatchery at Claude Peteet Mariculture Center—High Spat Production with Study

• Oyster Grow-Out and Restoration Reef Placement

Two activities are proposed for funding, in whole or in part, with the Alabama TIGs Monitoring and Adaptive Management Allocation

• Assessment of Alabama Estuarine Bottlenose Dolphin Populations and Health

• Restoring the Night Sky—Assessment, Training, and Outreach (also proposed for funding under the Habitats on Federally Managed Lands Restoration Type) (E&D)

The draft RP II/EA also evaluates No Action Alternatives for each of the Restoration Types.

The Alabama TIG has determined that the restoration projects and monitoring and adaptive management activities proposed for funding are appropriate to partially compensate for the injuries for these Restoration Types described in PDARP/PEIS. In the draft RP II/EA, the Alabama TIG presents to the public its plan for providing partial compensation to the public for natural resources and ecological services injured or lost in Alabama as a result of the Deepwater Horizon Oil Spill. The projects described in the draft RP II/EA are most appropriate for addressing injuries to: Wetlands, Coastal and Nearshore Habitats; Habitat Projects on Federally Managed Lands, Nutrient Reduction (Nonpoint Source), Sea Turtles, Marine Mammals, Birds, and Oysters, and as monitoring and adaptive management activities.

Next Steps

The public is encouraged to review and comment on the draft RP II/EA. As described above, a public meeting is scheduled to facilitate the public review and comment process. After the close of the public comment period, the Alabama TIG will consider and address the comments received before issuing a final RP II/EA. A summary of comments received, the Alabama TIG's responses, and any revisions to the document, as appropriate, will be included in the final document.

Public Meeting Schedule
Date | Time (local times) | Location
Wednesday, April 18, 2018 | 6 p.m. Open House; 6:30 p.m. Public Meeting | Five River Tensaw Theater, 31115 Five River Boulevard, Spanish Fort, Alabama 36527.

Invitation to Comment

The Alabama TIG seeks public review and comment on the draft RP II/EA. Before including your address, telephone number, email address, or other personal identifying information in your comment, you should be aware that your entire comment, including your personal identifying information, may be publicly available at any time.

Administrative Record

The documents included in the Administrative Record can be viewed electronically at the following location: http://www.doi.gov/deepwaterhorizon/adminrecord.

Authority: The authority of this action is the OPA of 1990 (33 U.S.C. Sec. 2701 et seq.), the implementing NRDA regulations at 15 CFR part 990, and NEPA (42 U.S.C. Sec. 4321 et seq.).

Signed this 20th day of March, 2018, in Washington, DC.
Leonard Jordan,
Acting Chief, Natural Resources Conservation Service.

[FR Doc. 2018-06929 Filed 4-4-18; 8:45 am]

BILLING CODE 3410-16-P